DEPARTMENT OF ENERGY

Federal Energy Regulatory Commission

[Project No. 2364-047]

Eagle Creek Madison Hydro, LLC; Notice of Effectiveness of Withdrawal of Application for Amendment of License

On June 20, 2023, Eagle Creek Madison Hydro, LLC (licensee) filed an application for non-capacity amendment of the license for the 18.8-megawatt Abenaki Hydroelectric Project No. 2364. On February 26, 2024, the licensee filed a notice of withdrawal of the amendment application. The project is located on the Kennebec River, Somerset County, Maine.

No motion in opposition to the notice of withdrawal has been filed, and the Commission has taken no action to disallow the withdrawal. Pursuant to Rule 216(b) of the Commission's Rules of Practice and Procedure,¹ the withdrawal of the application became effective on March 12, 2024, and this proceeding is hereby terminated.

¹ 18 CFR 385.216(b) (2023).

Dated: March 14, 2024.
Debbie-Anne A. Reese,
Acting Secretary.

[FR Doc. 2024-05884 Filed 3-19-24; 8:45 am]

BILLING CODE 6717-01-P